SMALL BUSINESS ADMINISTRATION

[Disaster Declaration #11686 and #11687]

Indiana Disaster Number IN-00029

AGENCY: U.S. Small Business Administration.

ACTION: Amendment 1.

SUMMARY: This is an amendment of the Presidential declaration of a major disaster for Public Assistance Only for the State of Indiana (FEMA-1828-DR), dated 03/05/2009.

Incident: Severe Winter Storm.

Incident Period: 01/26/2009 through 01/28/2009.

Effective Date: 04/06/2009.

Physical Loan Application Deadline Date: 05/04/2009.

Economic Injury (EIDL) Loan Application Deadline Date: 12/05/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Indiana, dated 03/05/2009, is hereby amended to include the following areas as adversely affected by the disaster.

Primary Counties:

Jennings, Lawrence, Ohio, Posey, Ripley, Scott.

All other information in the original declaration remains unchanged.

(Catalog of Federal Domestic Assistance Numbers 59002 and 59008)
James E. Rivera,
Acting Associate Administrator for Disaster Assistance.

[FR Doc. E9-8518 Filed 4-17-09; 8:45 am]

BILLING CODE 8025-01-P